DEPARTMENT OF HOUSING AND URBAN DEVELOPMENT

[Docket No. FR-4903-N-97]

Notice of Submission of Proposed Information Collection to OMB; Emergency Comment Request Third-Party Documentation Facsimile Transmittal Form

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal.

This is a request for approval of a Third-Party Documentation Facsimile Transmittal form which will be used for third party certification, and other attached documents normally attached to paper submissions of applications. This is intended as an interim solution until an alternative solution is devised for submission of these types of documents.

DATES: Comments Due Date: December 17, 2004.

ADDRESSES: Interested persons are invited to submit comments regarding this proposal. Comments must be received within seven (10) days from the date of this Notice. Comments should refer to the proposal by name and should be sent to: HUD Desk Officer, Office of Management and Regulatory Affairs, Office of Management and Budget, New Executive Office Building, Washington, DC 20503.

FOR FURTHER INFORMATION CONTACT: Wayne Eddins, Paperwork Reduction Act Compliance Officer, AYO, Department of Housing and Urban Development, 451 Seventh Street, SW., Washington, DC 20410; e-mail Wayne_Eddins@HUD.gov; telephone (202) 708-2374. This is not a toll-free number. Copies of available documents submitted to OMB may be obtained from Mr. Eddins.

SUPPLEMENTARY INFORMATION: This Notice informs the public that the U.S. Department of Housing and Urban Development (HUD) has submitted to OMB, for emergency processing. This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Third-Party Documentation Facsimile Transmittal Form.

Description of Information Collection: This is a request for approval of a Third-Party Documentation Facsimile Transmittal form which will be used for third party certification, and other attached documents normally attached to paper submissions of applications. This intended as an interim solution until an alternative solution is devised for submission of these types of documents.

OMB Control Number: 2535—Pending.

Agency Form Numbers: HUD form 96011.

Members of Affected Public: Not-for-profit institutions; State, Local or Tribal Governments; and Businesses or other for-profits.

Estimation of the total numbers of hours needed to prepare the information collection including number of respondents, frequency of responses, and hours of response: An estimation of the total amount of time needed to prepare the information collection is six minutes per applicant plus. The potential number of respondents is 33,000. The frequency of response is once per annum. The total public burden is estimated to be 3,300 hours.

Status: New collection.

Authority: The Paperwork Reduction Act of 1995, 44 U.S.C. Chapter 35, as amended.

Dated: November 30, 2004.
Wayne Eddins,
Departmental Reports Management Officer, Office of the Chief Information Officer.

[FR Doc. 04-26768 Filed 12-6-04; 8:45 am]

BILLING CODE 4210-72-P